DEPARTMENT OF COMMERCE

National Oceanic and Atmospheric Administration

[RTID 0648-XD688]

Caribbean Fishery Management Council; Public Meeting

AGENCY: National Marine Fisheries Service (NMFS), National Oceanic and Atmospheric Administration (NOAA), Commerce.

ACTION: Notice of public virtual meeting.

SUMMARY: The Caribbean Fishery Management Council's (Council) District Advisory Panels (DAPs) will hold a public virtual joint meeting to discuss the items contained in the tentative agenda included in the SUPPLEMENTARY INFORMATION.

DATES: The DAPs public virtual joint meeting will be held on February 21, 2024, from 10a.m. to 3:30 p.m. The meeting will be at Atlantic standard time (AST).

ADDRESSES: You may join the DAPs public virtual joint meeting (via Zoom) from a computer, tablet or smartphone by entering the following addresses:

Join Zoom Meeting: DAPs https://us02web.zoom.us/j/88004907357?pwd=ZnRPL0g4ekMzWHRJUzA1K1FoRnVOdz09

Meeting ID: 880 0490 7357

Passcode: 849982

One tap mobile:

+17879451488,,88004907357#,,,,*849982# Puerto Rico

+17879667727,,88004907357#,,,,*849982# Puerto Rico

Dial by your location:

• +1 787 945 1488 Puerto Rico

• +1 787 966 7727 Puerto Rico

• +1 939 945 0244 Puerto Rico

• +1 669 444 9171 US

Meeting ID: 880 0490 7357

Passcode: 849982

Find your local number: https://us02web.zoom.us/u/kbtRmz6s7w

FOR FURTHER INFORMATION CONTACT: Miguel Rolón, Executive Director, Caribbean Fishery Management Council, 270 Muñoz Rivera Avenue, Suite 401, San Juan, Puerto Rico 00918-1903; telephone: (787) 398-3717.

SUPPLEMENTARY INFORMATION: The items included in the tentative agenda are:

February 21, 2024

10 a.m. to 12 p.m.

—Environmental Equal Justice—Heather Blough, NOAA Fisheries, SERO

1:30 p.m.-3 p.m.

—NOAA Fisheries Permits Process Presentation—Jessica Stephen, NOAA Fisheries, SERO

3 p.m.-3:30 p.m.

—Other Business

Other than the starting date and time the order of business may be adjusted as necessary to accommodate the completion of agenda items, at the discretion of the Chair.

The meeting will begin on February 21, 2024 at 10 a.m. AST, and will end on February 21, 2024, at 3:30 p.m. AST.

Special Accommodations

For any additional information on this public hybrid meeting, you may contact Diana Martino, Caribbean Fishery Management Council, 270 Muñoz Rivera Avenue, Suite 401, San Juan, Puerto Rico, 00918-1903, telephone: (787) 226-8849.

Authority: 16 U.S.C. 1801 et seq.

Dated: January 26, 2024.
Rey Israel Marquez,
Acting Deputy Director, Office of Sustainable Fisheries, National Marine Fisheries Service.

[FR Doc. 2024-01916 Filed 1-30-24; 8:45 am]

BILLING CODE 3510-22-P